DEPARTMENT OF ENERGY

Office of Civilian Radioactive Waste Management Site Recommendation Consideration Process—Public Hearing Sessions in Various Localities To Receive Comments on Yucca Mountain Site Recommendation Consideration

AGENCY: Office of Civilian Radioactive Waste Management, Department of Energy.

ACTION: Notice of additional public hearing sessions to receive public comments.

SUMMARY: The Department of Energy (the Department) announces additional opportunities, in various localities in Nevada and California, for the public to provide comments on the possible recommendation of the Yucca Mountain site in Nevada for development of a spent nuclear fuel and high-level radioactive waste geologic repository. These public hearing sessions are being held in addition to the public hearings scheduled in Las Vegas, Amargosa Valley, and Pahrump, Nevada.

DATES: The public hearing sessions will be held in various Nevada counties and in Inyo County, California during the period of October 3-October 12, 2001 (details provided in Supplementary Information).

ADDRESSES: Written comments may also be addressed to Carol Hanlon, U.S. Department of Energy, Yucca Mountain Site Characterization Office (M/S #205), P.O. Box 30307, North Las Vegas, Nevada, 89036-0307.

FOR FURTHER INFORMATION CONTACT: U.S. Department of Energy, Office of Civilian Radioactive Waste Management, Yucca Mountain Site Characterization Office, (M/S #025), P.O. Box 30307, North Las Vegas, Nevada 89036-0307, 1-800-967-3477.

SUPPLEMENTARY INFORMATION: In the August 21, 2001, Federal Register Notice (66 FR 43850-43851), the Department announced the scheduling of public hearings in Las Vegas, Nevada, on September 5, 2001, in Amargosa Valley, Nevada on September 12, 2001, and in Pahrump, Nevada on September 13, 2001. The Department decided to postpone the latter two hearings in light of the recent terrorist attacks on the United States. In a notice published on September 27, 2001 (66 FR 49372-49373), the latter two hearings were rescheduled to October 10 and October 12, 2001, in Amargosa Valley, Nevada and Pahrump, Nevada, respectively.

In order to provide residents in other locations of Nevada and in California an opportunity to participate in the public comment process, the Department is providing additional opportunities to provide comments on the possible recommendation of the Yucca Mountain Site for development as a spent nuclear fuel and high-level radioactive waste repository prior to the end of the comment period. Local and regional newspapers will also provide information on these public hearing sessions. Departmental and contractor staff will be available to answer questions, and a court reporter will be present to record comments. The location, date and time for these sessions are listed as follows:

Lander County: Battle Mountain Civic Center, 625 S. Broad, Battle Mountain, NV; October 4 and 11, 3:00 p.m.-8:00 p.m.

Eureka County: Crescent Valley Town Hall, 5045 Tenabo Ave., Crescent Valley, NV; October 5 and 10, 3:00 p.m.-8:00 p.m.

Elko County: Elko Convention and Visitors Authority, 700 Moren Way (Cedar Room), Elko, NV; October 3, 3:00 p.m.-8:00 p.m.

Churchill County: Sandtrap Lounge & Restaurant, 2655 Country Club Dr., Fallon, NV; October 5 and 12, 3:00 p.m.-8:00 p.m.

Humboldt County: Winnemucca Convention Center, 50 W. Winnemucca Blvd., Winnemucca, NV; October 3 and 10, 3:00 p.m.-8:00 p.m.

Pershing County: Lovelock Community Center, 820 6th St., Lovelock, NV; October 4 and 11, 3:00 p.m.-8:00 p.m.

Lincoln County: Caliente Senior Citizens Center, 240 Front St., Caliente, NV; October 4 and 11, 3:00 p.m.-8:00 p.m.

White Pine County: Bristlecone Convention Center, 150 6th St., Ely, NV; October 3 and 10, 3:00 p.m.-8:00 p.m.

Inyo County: American Legion Hall, 205 S. Edwards St., Independence, CA; October 3, 3:00 p.m.-8:00 p.m.

Inyo County: Statham Hall, 138 Jackson St., Lone Pine, CA; October 10, 3:00 p.m.-8:00 p.m.

Esmeralda County: Goldfield Community Center, 301 Crook St., Goldfield, NV; October 4 and 11, 3:00 p.m.-8:00 p.m.

Mineral County: Mineral Chamber of Commerce Convention Center, 932 E St., Hawthorne, NV; October 5 and 12, 3:00 p.m.-8:00 p.m.

Storey County: Storey County Senior Center, Corner of Mill & E Sts.,Virginia City, NV; October 3 and 12, 3:00 p.m.-8:00 p.m.

Washoe County: Washoe County District Health Department, 1001 E. 9th St., Bldg. B, Auditorium B, Reno, NV; October 4, 3:00 p.m.-8:00 p.m.

Carson City: Old Capitol Building, Supreme Court Chambers, 101 N. Carson St. (Corner of Carson and Musser Sts.), Carson City, NV; October 3, 3:00 p.m.-8:00 p.m.

Douglas County: Sharkey's Rib Room, 1440 Highway 395, Gardnerville, NV; October 4 and 10, 3:00 p.m.-8:00 p.m.

Lyon County: Lyon County Administrative Complex, 27 S. Main St., Yerrington, NV; October 5 and 11, 3:00 p.m.-8:00 p.m.

Additional information on these public hearing sessions and the Civilian Radioactive Waste Management program may be obtained at the Yucca Mountain web site at www.ymp.gov or by calling 1-800-967-3477. Local and regional newspapers will also provide related information.

Issued in Washington, D.C. on September 28, 2001.
Lake H. Barrett,
Acting Director.

[FR Doc. 01-24767 Filed 10-2-01; 8:45 am]

BILLING CODE 6450-01-P